ENVIRONMENTAL PROTECTION AGENCY

[FRL-9114-7]

Science Advisory Board Staff Office; Notification of a Public Teleconference of the Chartered Science Advisory Board

AGENCY: Environmental Protection Agency (EPA).

ACTION: Notice.

SUMMARY: The EPA Science Advisory Board (SAB) Staff Office announces a public notice for the chartered SAB to hold a public teleconference on March 24, 2010 to conduct quality reviews of three draft reports.

DATES: The public teleconference will be held on March 24, 2010 from 1 p.m. to 5 p.m. (Eastern Time).

ADDRESSES: The public teleconference will be conducted by telephone only.

FOR FURTHER INFORMATION CONTACT: Any member of the public wishing to obtain general information concerning this public teleconference should contact Dr. Angela Nugent, Designated Federal Officer (DFO), EPA Science Advisory Board (1400F), 1200 Pennsylvania Avenue, NW., Washington, DC 20460; via telephone/voice mail (202) 343-9981; fax (202) 233-0643; or e-mail at nugent.angela@epa.gov. General information concerning the EPA Science Advisory Board can be found on the SAB Web site at http://www.epa.gov/sab.

SUPPLEMENTARY INFORMATION: Pursuant to the Federal Advisory Committee Act, 5 U.S.C., App. 2 (FACA), notice is hereby given that the EPA Science Advisory Board will hold a public teleconference to conduct quality reviews of three draft SAB Panel reports: (1) The SAB Drinking Water Committee's draft Review of EPA's Microbial Risk Assessment Protocol; (2) the SAB Ecological Processes and Effects Committee's draft Review of Empirical Approaches for Nutrient Criteria Derivation; and (3) the draft Report of the Risk and Technology Methods Review Panel. The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background: (1) The SAB Drinking Water Committee's Draft Review of EPA's Microbial Risk Assessment Protocol. EPA's Office of Water (OW) conducts microbial risk assessments (MRA) as part of its responsibility for protecting human health and the environment from contaminants in water. OW has requested the SAB conduct a review of the draft “Protocol for Microbial Risk Assessment for Support Human Health Protection for Water-Based Media” and provide recommendations on how to improve the overall approach, the applicability of the protocol, the reasonableness of the protocol, the clarity of the protocol, the completeness and robustness of the protocol, and the ease of use of the protocol for conducting water-based microbial risk assessments. Background information about this advisory activity can be found on the SAB Web site at http://yosemite.epa.gov/sab/sabproduct.nsf/fedrgstr_activites/MRA%20Protocol?OpenDocument.

(2) SAB Ecological Processes and Effects Committee's Draft Review of Empirical Approaches for Nutrient Criteria Derivation: Nutrient enrichment is one of the leading causes of surface water quality impairment in the United States. The adoption of numeric nutrient criteria in state water quality standards for the protection of aquatic life is a high priority for EPA's Office of Water. EPA's OW has requested SAB review of the Agency's draft Technical Guidance on Empirical Approaches for Numerical Nutrient Criteria Development. This draft guidance would supplement EPA's published technical guidance for developing numeric nutrient water quality by using empirically-derived stressor-response relationships as the basis for developing numeric nutrient endpoints for water quality standards.

Background information about this advisory activity can be found on the SAB Web site at http://yosemite.epa.gov/sab/sabproduct.nsf/fedrgstr_activites/Empirical%20Criteria%20Guidance?OpenDocument.

(3) The Draft Report of the Risk and Technology Methods Review Panel: Section 112(f)(2)(A) of the 1990 Clean Air Act Amendments (CAA) requires EPA to evaluate whether emission standards that were previously adopted under the technology-based, Maximum Achievable Control Technology (MACT) program provide an ample margin of safety to protect public health and prevent adverse environmental effects (taking into consideration costs, energy, safety, and other relevant factors). Within eight years of the promulgation of a MACT standard for the source category, EPA is mandated by the CAA to assess the risks to determine whether additional standards are needed. EPA's Office of Air and Radiation requested the SAB to review the draft assessments which evaluate the potential risks to human health and the environment from two source categories (petroleum refinery and Portland kiln cement) that remain after compliance with MACT. Background information about this advisory activity can be found on the SAB Web site at http://yosemite.epa.gov/sab/sabproduct.nsf/fedrgstr_activites/RTR%20Risk%20Assessments%20(P2%2C%20G3)?OpenDocument.

Availability of Meeting Materials: The agenda and other materials in support of the teleconference will be placed on the SAB Web site at http://www.epa.gov/sab in advance of the teleconference.

Procedures for Providing Public Input: Interested members of the public may submit relevant written or oral information for the SAB to consider during this teleconference. Oral Statements: In general, individuals or groups requesting time to make an oral presentation at a public SAB teleconference will be limited to three minutes, with no more than one-half hour for all speakers. Those interested in being placed on the public speakers list should contact Dr. Nugent at the contact information provided above by March 17, 2010. Written Statements: Written statements should be received in the SAB Staff Office by March 17, 2010. Written statements should be supplied to the DFO via e-mail to nugent.angela@epa.gov (acceptable file format: Adobe Acrobat PDF, WordPerfect, MS Word, MS PowerPoint, or Rich Text files in IBM-PC/Windows98/2000/XP format). Submitters are asked to provide versions of each document submitted with and without signatures, because the SAB Staff Office does not publish documents with signatures on its Web sites.

Accessibility: For information on access or services for individuals with disabilities, please contact Dr. Angela Nugent at (202) 343-9981 or nugent.angela@epa.gov. To request accommodation of a disability, please contact her preferably at least 10 days prior to the teleconference, to give EPA as much time as possible to process your request.

Dated: February 4, 2010.
Anthony Maciorowski,
Deputy Director, EPA Science Advisory Board Staff Office.

[FR Doc. 2010-3358 Filed 2-19-10; 8:45 am]

BILLING CODE 6560-50-P